DEPARTMENT OF VETERANS AFFAIRS

Veterans' Rural Health Advisory Committee; Notice of Meeting

The Department of Veterans Affairs (VA) gives notice under Public Law 92-463 (Federal Advisory Committee Act) that the Veterans' Rural Health Advisory Committee will conduct a telephone conference call meeting from 11 a.m. to 12:30 p.m. on Monday, January 30, 2012, in Room GL20 of the Office of Rural Health, 1722 I Street NW., Washington, DC. The toll-free number for the meeting is 1 (800) 767-1750, and the access code is 44970#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will discuss the Committee's Annual Report to the Secretary and the meeting agenda and planning for the Committee's March 2012 meeting in Uvalde, Texas. The Committee will also receive an update from the Director, Office of Rural Health.

A 15-minute period will be reserved at 12:15 p.m. for public comments. Individuals who wish to address the Committee are invited to submit a 1-2 page summary of their comments for inclusion in the official meeting record. Any member of the public seeking additional information should contact Judy Bowie, Designated Federal Officer, at rural.health.inquiry@va.gov or (202) 461-7100.

Dated: January 17, 2012.
By Direction of the Secretary.
Vivian Drake,
Committee Management Officer.

[FR Doc. 2012-1173 Filed 1-20-12; 8:45 am]

BILLING CODE P